DEPARTMENT OF HOMELAND SECURITY

Federal Emergency Management Agency

44 CFR Part 65

[Docket ID FEMA-2011-0002]

Changes in Flood Elevation Determinations

Correction

In rule document 2011-20963 appearing on pages 50915-50918 in the issue of Wednesday, August 17, 2011, make the following correction:

§ 65.4 [Amended]

1. On page 50917, in the untitled table, the second through the sixth entries should read:

* * * * * * *
Colorado:
Adams (FEMA Docket No.: B-1186) | City of Commerce City (10-08-0226P) | February 1, 2011; February 8, 2011; The Commerce City Sentinel Express | The Honorable Paul Natale, Mayor, City of Commerce City, 7887 East 60th Avenue, Commerce City, CO 80022 | June 8, 2011 | 080006
Adams (FEMA Docket No.: B-1191) | City of Thornton (10-08-0748P) | February 17, 2011; February 24, 2011; The Northglenn-Thornton Sentinel | The Honorable Mack Goodman, Mayor Pro Tem, City of Thornton, 9500 Civic Center Drive, Thornton, CO 80229 | June 24, 2011 | 080007
Adams (FEMA Docket No.: B-1191) | Unincorporated areas of Adams County (10-08-0748P) | February 17, 2011; February 24, 2011; The Northglenn-Thornton Sentinel | The Honorable W.R. “Skip” Fischer, Chairman, Adams County Board of Commissioners, 4430 South Adams County Parkway, Brighton, CO 80601 | June 24, 2011 | 080001
Douglas (FEMA Docket No. B-1191) | Unincorporated areas of Douglas County (11-08-0030P) | February 10, 2011; Feburary 17, 2011; The Douglas County News-Press | The Honorable Jill Repella, Chair, Douglas County Board of Commissioners, 100 3rd Street, Castle Rock, CO 80104 | June 17, 2011 | 080049
Douglas (FEMA Docket No.: B-1195) | Unincorporated areas of Douglas County (11-08-0287P) | March 10, 2011; March 17, 2011; The Douglas County News-Press | The Honorable Jill Repella, Chair, Douglas County Board of Commissioners, 100 3rd Street, Castle Rock, CO 80104 | February 28, 2011 | 080049
* * * * * * *

2. On the same page, in the same table, the fourteenth entry should read:

* * * * * * *
Oklahoma: Tulsa (FEMA Docket No.: B-1113) | City of Broken Arrow, (09-06-3069P) | February 23, 2010; March 2, 2010; Tulsa Daily Commerce and Legal News | The Honorable Mike Lester, Mayor, City of Broken Arrow, 220 South 1st Street, Broken Arrow, OK 74012 | March 18, 2010 | 400236
* * * * * * *

3. On the same page, in the same table, the twentieth entry should read:

* * * * * * *
Texas: Bexar (FEMA Docket No.: B-1135) | City of San Antonio (09-06-3107P) | April 23, 2010; April 30, 2010; The San Antonio Express-News | The Honorable Julian Castro, Mayor, City of San Antonio, P.O. Box 839966, San Antonio, TX 78283 | April 26, 2010 | 480045
* * * * * * *

4. On page 50918, in the same table, the first through the third entries should read:

* * * * * * *
Texas:
Collin (FEMA Docket No.: B-1116) | City of Allen (09-06-3028P) | November 6, 2009; November 13, 2009; The McKinney Courier-Gazette | The Honorable Stephen Terrell, Mayor, City of Allen, 305 Century Parkway, Allen, TX 75013 | October 28, 2009 | 480131
Collin (FEMA Docket No.: B-1116) | City of McKinney (09-06-3028P) | November 6, 2009; November 13, 2009; The McKinney Courier-Gazette | The Honorable Brian Loughmiller, Mayor, City of McKinney, 222 North Tennessee Street, P.O. Box 517, McKinney, TX 75069 | October 28, 2009 | 480135
Collin (FEMA Docket No.: B-1113) | City of McKinney (10-06-0322P) | February 4, 2010; February 11, 2010; The McKinney Courier-Gazette | The Honorable Brian Loughmiller, Mayor, City of McKinney, 222 North Tennessee Street, P.O. Box 517, McKinney, TX 75069 | June 11, 2010 | 480135
* * * * * * *

5. On the same page, in the same table, the ninth entry should read:

* * * * * * *
Texas: Johnson (FEMA Docket No.: B-1162) | City of Mansfield (10-06-0427P) | July 20, 2010; July 27, 2010; The Fort Worth Star-Telegram | The Honorable David Cook, Mayor, City of Mansfield, 1200 East Broad Street, Mansfield, TX 76063 | November 24, 2010 | 480606
* * * * * * *

[FR Doc. C1-2011-20963 Filed 8-23-11; 8:45 am]

BILLING CODE 1505-01-D